FARM CREDIT SYSTEM INSURANCE CORPORATION

12 CFR Part 1412

RIN 3055-AA08

Golden Parachute and Indemnification Payments

AGENCY: Farm Credit System Insurance Corporation (FCSIC or Corporation).

ACTION: Notice of effective date.

SUMMARY: The Corporation published a final rule under part 1412 on February 13, 2006 (71 FR 7402) limiting golden parachute and indemnification payments to institution-related parties (IRPs) by Farm Credit System institutions, including their subsidiaries, service corporations and affiliates. The purpose of the rule is to prevent abuses in golden parachute and indemnity payments and to protect the assets of the institution and the Farm Credit System Insurance Fund. In accordance with 12 U.S.C. 2252, the effective date of the final rule is 30 days from the date of publication in the Federal Register during which either or both Houses of Congress are in session. Based on the records of Congress, the effective date of the regulation is April 26, 2006.

EFFECTIVE DATE: The regulation adding 12 CFR part 1412 published on February 13, 2006 (71 FR 7402) is effective April 26, 2006.

FOR FURTHER INFORMATION CONTACT: Dorothy L. Nichols, Chief Operating Officer, Farm Credit System Insurance Corporation, 1501 Farm Credit Drive, McLean, VA 22102, 703-883-4211, TTY 703-883-4390, Fax 703-790-9088.

Dated: April 26, 2006.
Roland E. Smith,
Secretary to the Board, Farm Credit System Insurance Corporation.

[FR Doc. 06-4095 Filed 5-1-06; 8:45 am]

BILLING CODE 6710-01-P